DEPARTMENT OF THE INTERIOR

Bureau of Land Management

[L14400000 PN0000 HQ350000 212; OMB Control No. 1004-0029]

Agency Information Collection Activities; Color-of-Title Application

AGENCY: Bureau of Land Management, Interior.

ACTION: Notice of information collection; request for comment.

SUMMARY: In accordance with the Paperwork Reduction Act of 1995, the Bureau of Land Management (BLM) proposes to renew an information collection.

DATES: Interested persons are invited to submit comments on or before July 19, 2021.

ADDRESSES: Send your written comments on this information collection request (ICR) by mail to Darrin King, Information Collection Clearance Officer, U.S. Department of the Interior, Bureau of Land Management, Attention PRA Office, 440 W 200 S #500, Salt Lake City, UT 84101; or by email to BLM_HQ_PRA_Comments@blm.gov. Please reference Office of Management and Budget (OMB) Control Number 1004-0029 in the subject line of your comments. Please note that due to COVID-19, the electronic submission of comments is recommended.

FOR FURTHER INFORMATION CONTACT: To request additional information about this ICR, contact Susie Greenhalgh by email at lgreenhalgh@blm.gov, or by telephone at 202-302-4288. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct, or sponsor, and you are not required to respond to, a collection of information unless it displays a currently valid OMB control number.

As part of our continuing effort to reduce paperwork and respondent burdens, we invite the public and other Federal agencies to comment on new, proposed, revised, and continuing collections of information. This helps us assess the impact of our information collection requirements and minimizes the public's reporting burden. It also helps the public understand our information collection requirements and provides the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BLM collects and uses the information to determine the validity of a claim under the Color-of-Title Act. The following forms comprise an application in support of a Color-of-Title claim: (a) 2540-001, Color-of-Title Application; (b) 2540-002, Conveyances Affecting Color or Claim of Title; and (c) 2540-003, Color-of-Title Tax Levy and Payment Record. A respondent must submit all of the forms concurrently, or the BLM will reject a claim as insufficient. This request is for OMB to renewal for this OMB control number for an additional three years.

Title of Collection: Color-of-Title Application (43 CFR Subparts 2540 and 2541).

OMB Control Number: 1004-0029.

Form Numbers: 2540-001; 2540-002, and 2540-003.

Type of Review: Extension of a currently approved collection.

Respondents/Affected Public: Individuals, groups, or corporations that wish to claim title to a tract of public land on grounds that such land has been held in good faith and in peaceful, adverse possession under claim or color of title, and have placed valuable improvements on such land or some part thereof has been reduced to cultivation for an amount of time sufficient under the Color-of-Title Act, 43 U.S.C. 1068, et seq.

Total Estimated Number of Annual Respondents: 8.

Total Estimated Number of Annual Responses: 8.

Estimated Completion Time per Response: 3 hours.

Total Estimated Number of Annual Burden Hours: 24.

Respondent's Obligation: Required to obtain or retain a benefit.

Frequency of Collection: On occasion.

Total Estimated Annual Nonhour Burden Cost: $80.

An agency may not conduct or sponsor and, notwithstanding any other provision of law, a person is not required to respond to a collection of information unless it displays a currently valid OMB control number.

The authority for this action is the Paperwork Reduction Act of 1995 (44 U.S.C. 3501 et seq.).

Darrin A. King,
Information Collection Clearance Officer.

[FR Doc. 2021-10461 Filed 5-17-21; 8:45 am]

BILLING CODE 4310-84-P